DEPARTMENT OF ENERGY

Draft Environmental Impact Statement for the Gilberton Coal-to-Clean Fuels and Power Project

AGENCY: Department of Energy.

ACTION: Notice of availability and public hearings.

SUMMARY: The U.S. Department of Energy (DOE) announces the availability of the document, Draft Environmental Impact Statement for the Gilberton Coal-to-Clean Fuels and Power Project (DOE/EIS-0357), for public comment. The draft environmental impact statement (EIS) analyzes the potential environmental consequences of providing federal funding for the design, engineering, construction, and operation of the first power facility in the United States to use coal waste as feed to a gasification facility that subsequently generates fuel gas for clean power, thermal energy, and clean liquid fuels production. The project would be constructed at an existing power plant site in Gilberton, Schuylkill County, Pennsylvania.

The Department prepared this draft EIS in accordance with the National Environmental Policy Act of 1969 (NEPA) (42 U.S.C. 4321 et seq.), the Council on Environmental Quality (CEQ) regulations that implement the procedural provisions of NEPA (40 CFR parts 1500-1508), and the DOE procedures implementing NEPA (10 CFR part 1021).

DOE's proposed action (and preferred alternative) is to provide cost-shared funding to design, construct, and operate a new plant to demonstrate coproduction of 41 MW of electricity for export, steam, and over 5,000 barrels-per-day of clean liquid hydrocarbon products (primarily diesel fuel and naptha). DOE may also provide a loan guarantee, pursuant to the Energy Policy Act of 2005, to guarantee a portion of the private sector financing for the project. The demonstration plant would use a gasifier to convert coal waste to synthesis gas, which would be conveyed to Fischer-Tropsch (F-T) liquefaction facilities for production of liquid fuels and to a combined-cycle power plant. The demonstration facilities, to be constructed in Gilberton, Schuylkill County, Pennsylvania, would process up to 4,700 tons per day of coal waste (anthracite culm). The potential environmental impacts of this action are evaluated in this Draft EIS. The Draft EIS also analyzed the No Action Alternative, under which DOE would not provide cost-shared funding to demonstrate the commercial-scale integration of coal gasification and F-T synthesis technology to produce electricity, steam and liquid fuels. Under the No-Action Alternative, it is reasonably foreseeable that no new activity would occur.

DATES: DOE invites the public to comment on the Draft EIS during the public comment period, which ends February 8, 2006. DOE will consider all comments postmarked or received during the public comment period in preparing the Final EIS, and will consider late comments to the extent practicable.

DOE will hold public hearings on January 9, 2006, at Shenandoah Valley Junior/Senior High School, 805 West Center Street, Shenandoah, PA 17976, 7 p.m. to 9 p.m., and on January 10, 2006, at D.H.H. Lengel Middle School, 1541 West Laurel Boulevard, Pottsville, PA 17901, and 7 p.m. to 9 p.m. Informational sessions will be held at both locations from 4 p.m. to 6:30 p.m., preceding the public hearings on the dates noted above.

ADDRESSES: Requests for information about this Draft EIS or to receive a copy of the Draft EIS should be directed to: Janice L. Bell, NEPA Document Manager, U.S. Department of Energy, National Energy Technology Laboratory, M/S 58-247A, P.O. Box 10940, Pittsburgh, PA 15236. Additional information about the Draft EIS may also be requested by telephone at (412) 386-4512, or toll-free at (866) 576-8240. The Draft EIS will be available at http://www.eh.doe.gov/nepa/. Copies of the Draft EIS are also available for review at the locations listed in the SUPPLEMENTARY INFORMATION section of this Notice.

Written comments on the Draft EIS can be mailed to Janice L. Bell, NEPA Document Manager, at the address noted above. Written comments may also be submitted by fax to: (412) 386-4806, or submitted electronically to: jbell@netl.doe.gov. Oral comments on the Draft EIS will be accepted only during the public hearings scheduled for the date and location provided in the DATES section of this Notice.

Requests to speak at the public hearings can be made by calling or writing the EIS Document Manager (see ADDRESSES). Requests to speak that have not been submitted prior to the hearing will be accepted in the order in which they are received during the hearing. Speakers are encouraged to provide a written version of their oral comments for the record. Each speaker will be allowed five minutes to present comments unless more time is requested and available. Comments will be recorded by a court reporter and will become part of the public hearing record.

FOR FURTHER INFORMATION CONTACT: For further information on the proposed project or the draft environmental impact statement, please contact Ms. Janice Bell as directed above. For general information regarding the DOE NEPA process, please contact: Ms. Carol M. Borgstrom, Director, Office of NEPA Policy and Compliance (EH-42), U.S. Department of Energy, 1000 Independence Avenue, SW., Washington, DC 20585, Telephone: (202) 586-4600, or leave a message at (800) 472-2756.

SUPPLEMENTARY INFORMATION:

Description of Alternatives

DOE analyzed two alternatives in the Draft EIS. Under the No Action Alternative, DOE would not provide cost-shared funding to demonstrate the commercial-scale integration of coal gasification and Fischer-Tropsch (F-T) synthesis technology to produce electricity, steam and liquid fuels. Under the No-Action Alternative, it is reasonably foreseeable that no new activity would occur. No construction or operation of the proposed facilities would occur; no site preparation would be required, such as clearing of trees and other vegetation; no employment would be provided for construction workers in the area or for operators of the proposed facilities; and no resources would be required and no discharges of wastes would occur. Under the No Action Alternative, no anthracite culm, which is stacked in numerous piles as waste from previous anthracite coal mining activities, would be removed.

Under the proposed action, DOE would provide cost-shared funding to design, construct, and operate a new plant to demonstrate coproduction of 41 MW of electricity for export, steam, and over 5,000 barrels-per-day of clean liquid hydrocarbon products (primarily diesel fuel and naptha). The demonstration plant would use a gasifier to convert coal waste to synthesis gas, which would be conveyed to F-T liquefaction facilities for production of liquid fuels and to a combined-cycle power plant. The primary feedstock for the proposed facilities would be low-cost anthracite culm, which is a locally abundant, previously discarded resource (about 100 million tons) that could accommodate fuel requirements through the lifetime of the facilities. The culm would be trucked to the site from the surrounding local area. Micronized limestone, which would be used as flux added to the feedstock to lower the ash melting temperature of the culm and promote fluidity, would be trucked from mines within 100 miles of the project site.

The facilities would produce about 5,000 barrels of liquid fuels per day and 41 MW of electricity for export to the regional power grid. To reduce costs, the project would take advantage of existing local infrastructure, including rail, water, and transmission lines. The net efficiency would be about 45%, compared to about 33% for a traditional coal-fired power plant and about 40% for a state-of-the-art integrated gasification combined cycle power plant.

An average of 516 construction workers would be at the site during the construction period; approximately 1,000 workers would be required during the peak construction period. Demonstration (including performance testing and monitoring) would be conducted over a 3-year period. If the demonstration is successful, commercial operation would follow immediately. About 250 workers would be required during the demonstration, and 150 workers would be needed for long-term operations.

Proposed emissions from the facility would be small, especially for sulfur dioxide (SO 2), because most of the sulfur would be removed from the synthesis gas prior to conveying the gas to the F-T liquefaction facilities and the combined cycle power plant. The use of anthracite culm would reduce waste disposal from operating mines and allow reclamation of land currently stock piled with culm.

Availability of the Draft EIS

Copies of this Draft EIS have been distributed to Members of Congress, Federal, State, and local officials, and agencies, organizations and individuals who may be interested or affected. This Draft EIS will be available on the Internet at: http://www.eh.doe.gov/nepa/. Additional copies can also be requested by telephone at (412) 386-4512, or (866) 576-8240. Copies of the Draft EIS are also available for public review at the locations listed below.

Frackville Free Public Library, 56 N. Lehigh Avenue, Frackville, PA 17931.

Mahanoy City Public Library, 17-19 W. Mahanoy Avenue, Mahanoy City, PA 17948.

Pottsville Free Library, 215 West Market Street, Pottsville, PA 17901.

Issued in Washington, DC, on December 2, 2005.
Mark J. Matarrese,
NEPA Compliance Officer, Office of Fossil Energy.

[FR Doc. E5-7069 Filed 12-7-05; 8:45 am]

BILLING CODE 6450-01-P